DEPARTMENT OF THE INTERIOR

Bureau of Land Management

[CA-190-07-1610]

Notice of Intent To Prepare a Resource Management Plan for the Clear Creek Management Area, California, and Associated Environmental Impact Statement

AGENCY: Bureau of Land Management, Interior.

ACTION: Notice of intent.

SUMMARY: The Bureau of Land Management (BLM) Field Office, Hollister, California, intends to prepare a Resource Management Plan (RMP) with an associated Environmental Impact Statement (EIS) for the Clear Creek Management Area (CCMA); and by this notice announces public scoping meetings. The RMP will replace the existing planning decisions for the CCMA contained in the 1984 Hollister RMP and the associated CCMA RMP Amendments (1986, 1995, 2006).

DATES: Written comments and resource information should be submitted within 30 calendar days of the last scheduled public scoping meeting. The BLM will announce public scoping meetings to identify relevant issues through local news media, newsletters, and the BLM Web site http://www.blm.gov/ca/st/en/fo/hollister/CCMA_RMP.html at least 15 days prior to the first meeting. The BLM will provide additional opportunities for public participation upon publication of the Draft RMP/EIS.

ADDRESSES: You may submit written scoping comments by any of the following methods:

• E-mail: cahormp@ca.blm.gov.

• Fax: (831) 630-5055.

• Mail: Hollister Field Office, 20 Hamilton Court, Hollister, CA 95023.

Documents pertinent to this proposal may be examined at the Hollister Field Office.

FOR FURTHER INFORMATION: For further information and/or to have your name added to our mailing list, contact Sky Murphy, Telephone (831) 630-5039; e-mail Sky_Murphy@blm.gov.

SUPPLEMENTARY INFORMATION: This document provides notice that the BLM Field Office, Hollister, California intends to prepare a RMP with an associated EIS for the Clear Creek Management Area and announces public scoping meetings.

The planning area is located in southern San Benito and western Fresno counties. This planning activity encompasses approximately 63,000 acres of public land. The plan will fulfill the needs and obligations set forth by the National Environmental Policy Act (NEPA), the Federal Land Policy and Management Act (FLPMA), and BLM management policies. The BLM will work collaboratively with interested parties to identify the management decisions that are best suited to local, regional, and national needs and concerns.

The purpose of the public scoping process is to determine relevant issues that will influence the scope of the environmental analysis and EIS alternatives. These issues also guide the planning process. You may submit comments on issues and planning criteria in writing to the BLM at any public scoping meeting, or you may submit them to the BLM using one of the methods listed in the ADDRESSES section above. To be most helpful, you should submit formal scoping comments within 30 days after the last public meeting. The minutes and list of attendees for each scoping meeting will be available to the public and open for 30 days after the meeting to any participant who wishes to clarify the views he or she expressed.

Preliminary issues and management concerns have been identified by BLM personnel, other agencies, and in meetings with individuals and user groups. They represent the BLM's knowledge to date regarding the existing issues and concerns with current land management. The major issues that will be addressed in this planning effort include: impacts to public safety and human health from naturally-occurring asbestos and past mining activities; designation and management of special management areas; ecosystem management and desired conditions; wildland and prescribed fire management; livestock grazing; motorized and non-motorized recreation management; lands available for disposal or of interest for acquisition; and potential for energy development.

Issues identified through public scoping will be placed in one of three categories:

1. Issues to be resolved in the plan;

2. Issues to be resolved through policy or administrative action; or

3. Issues beyond the scope of this plan.

The BLM will provide an explanation in the EIS as to why we placed an issue in category two or three. In addition to these major issues, a number of management questions and concerns will be addressed in the RMP. The public is encouraged to help identify these questions and concerns during the 90-day scoping period.

Preliminary planning criteria include:

1. The RMP will be developed in compliance with FLPMA, all other applicable laws, regulations, executive orders, and BLM supplemental program guidance.

2. The planning process will include an EIS that will comply with NEPA standards.

3. Economic and social baselines and consequences will be developed in coordination with local and county governments.

4. Initiate government to government consultation, including Tribal interests.

5. Consider the extent to which the revised plan reduces airborne asbestos emissions and minimizes asbestos exposure and addresses public health impact of the Hazardous Asbestos Area. (Ref; Environmental Protection Agency (EPA) Atlas Asbestos Mine Superfund Site Record of Decision (ROD), February 1991, Appendix 2, pg. 14).

6. Consider the extent to which the revised plan reduces accelerated erosion and offsite transport of asbestos fibers on vehicles and clothes due to off-highway vehicle use. (Ref; EPA Atlas Superfund Site ROD, Appendix 2, pg. 14).

7. All new data collected will have information about the data (metadata) stored in a data base. All metadata will meet the Federal Geographic Data Committee (FGDC) standards.

8. The RMP/EIS will incorporate by reference the Standards for Rangeland Health and Guidelines for Livestock Grazing Management.

9. The RMP will result in determinations as required by special program and resource specific guidance detailed in Appendix C of the BLM's Planning Handbook (H-1601-1).

10. Decisions in the RMP will strive to be compatible with the existing plans and policies of adjacent local, State, Tribal, and Federal agencies as long as the decisions are in conformance with legal mandates on management of public lands.

11. Resource allocations must be reasonable and achievable within available technological and budgetary constraints.

The BLM will use an interdisciplinary approach to develop the RMP in order to consider the variety of resource issues and concerns identified. Specialists with expertise in the following disciplines will be involved in the planning process: rangeland management, minerals and geology, outdoor recreation, archaeology, botany, wildlife and fisheries, lands and realty, hydrology, soils, and sociology and economics.

Before including your address, phone number, e-mail address, or other personal identifying information in your comment, you should be aware that your entire comment—including your personal identifying information—may be made publicly available at any time. While you can ask us in your comment to withhold your personal identifying information from public review, we cannot guarantee that we will be able to do so.

Dated: August 27, 2007.
Rick Cooper,
Hollister Field Office Manager.

[FR Doc. E7-17599 Filed 9-5-07; 8:45 am]

BILLING CODE 4310-40-P